FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)- 523-5793 or tradeanalysis@fmc.gov.

Agreement No.: 011383-045.

Title: Venezuelan Discussion Agreement.

Parties: Hamburg-Süd; King Ocean Service de Venezuela; Seaboard Marine Ltd., and SeaFreight Line, Ltd.

Filing Party: Wayne R. Rohde, Esq.; Cozen O'Conner; 1627 I Street, NW., Suite 1100; Washington, DC 20006-4007.

Synopsis: The amendment would replace King Ocean Service de Venezuela with King Ocean Services Limited, Inc. as a party to the agreement.

Agreement No.: 201162-008.

Title: NYSA-ILA Assessment Agreement.

Parties: International Longshoremen's Association and New York Shipping Association.

Filing Parties: Donato Caruso, Esq.; The Lambos Firm; 303 South Broadway, Suite 410; Tarrytown, NY 10591 and Andre Mazzola, Esq.; Marrinan & Mazzola Mardon, P.C.; 26 Broadway, 17th Floor; New York, NY 10004.

Synopsis: The amendment reduces the assessment rate on certain containers in the Bermuda trade.

By Order of the Federal Maritime Commission.
Dated: August 5, 2011.
Karen V. Gregory,
Secretary.

[FR Doc. 2011-20329 Filed 8-9-11; 8:45 am]

BILLING CODE 6730-01-P